DEPARTMENT OF COMMERCE

National Oceanic and Atmospheric Administration

RIN: 0648-XE95

Mid-Atlantic Fishery Management Council; Public Hearings

AGENCY: National Marine Fisheries Service (NMFS), National Oceanic and Atmospheric Administration (NOAA), Commerce.

ACTION: Notice of public hearings.

SUMMARY: The Mid-Atlantic Fishery Management Council will hold public hearings to allow for input on Amendment 1 to the Fishery Management Plan (FMP) for the Tilefish Fishery.

DATES: The hearings will be held on Wednesday, January 30, 2008 through Wednesday, February 6, 2008. See SUPPLEMENTARY INFORMATION for specific dates, locations, and times of hearings. Written comments will be accepted until February 11, 2008.

ADDRESSES: Send comments to: Daniel T. Furlong, Executive Director of the Mid-Atlantic Fishery Management Council, Suite 2115 Federal Building, 300 South New Street, Dover, DE 19904; fax: (302) 674-5399; e-mail: info@mafmc.org. Please indicate the subject as Tilefish 1.

FOR FURTHER INFORMATION CONTACT: Daniel T. Furlong, Executive Director, Mid-Atlantic Fishery Management Council, Room 2115, Federal Building, 300 South New Street, Dover, DE 19904; telephone: (302) 674-2331 ext. 19.

SUPPLEMENTARY INFORMATION: The purpose of the hearings is to receive public input on management actions under consideration in Amendment 1 to the Tilefish FMP. There are 19 proposed management actions in this Amendment. The proposed management actions could: (1) implement an individual fishing quota (IFQ) program/allocation; (2) establish IFQ permanent transferability of ownership; (3) establish IFQ temporary transferability of ownership; (4) establish IFQ share accumulation guidelines or limitations; (5) implement commercial trip limits in the part-time category; (6) address fees and cost recovery; (7) establish flexibility to revise/adjust the IFQ program; (8) establish IFQ reporting requirements; (9) modify the Interactive Voice Response (IVR) reporting requirements; (10) revise commercial vessel logbook reports; (11) address hook size restrictions in the commercial fishery; (12) implement recreational permits and reporting requirements; (13) implement recreational bag-size limits; (14) improve monitoring of tilefish commercial landings; (15) expand the list of management measures that can be adjusted via the framework adjustment process; (16) modify essential fish habitat (EFH) designation; (17) modify (HAPC (habitat areas of particular concern) designation; (18) implement measures to reduce gear impacts on EFH; and (19) establish methods for collecting royalties under a Tilefish IFQ system.

Dates and Locations of Public Hearings

•Wednesday, January 30, 2008: Hampton Roads Convention Center, 1610 Coliseum Drive, Hampton, VA 23666, telephone: (888) 484-4722

•Monday, February 4, 2008: Holiday Inn Express East End, 1707 Old Country Road, Riverhead, NY 11901, telephone: (631) 548-1000

•Tuesday, February 5, 2008: Hilton Garden Inn, Providence Airport, One Thurber Street, Warwick, RI 02882, telephone: (401) 734-9600.

•Wednesday, February 6, 2008: Holiday Inn Toms River, 290 State Highway 37 East, Toms River, NJ 08753, telephone: (732) 244-4000

All hearings begin at 7 p.m. and will be tape recorded with the tapes filed as the official transcript of the hearing.

Special Accommodations

These meetings are physically accessible to people with disabilities. Requests for sign language interpretation or other auxiliary aids should be directed to M. Jan Bryan at the Mid-Atlantic Council Office, (302) 674-2331 ext. 18, at least 5 days prior to the meeting.

Dated: January 9, 2008.
Tracey L. Thompson,
Acting Director, Office of Sustainable Fisheries, National Marine Fisheries Service.

[FR Doc. E8-422 Filed 1-11-08; 8:45 am]

BILLING CODE 3510-22-S